DEPARTMENT OF DEFENSE

Office of the Secretary

[No. DoD-2006-OS-0019]

Submission for OMB Review; Comment Request

ACTION: Notice.

The Department of Defense has submitted to OMB for clearance, the following proposal for collection of information under the provisions of the Paperwork Reduction Act (44 U.S.C. Chapter 35).

DATES: Consideration will be given to all comments received by March 27, 2006.

Title, Form and OMB Number: Claim for reimbursement and Payment Voucher for Privately-Purchased Protective, Safety, or Health Equipment Used in Combat; DD Form 2902; OMB Control Number 0704-0436.

Type of Request: Extension.

Number of Respondents: 2,500.

Responses per Respondent: 1.

Annual Responses: 2,500.

Average Burdens per Response: 45 minutes.

Annual Burden Hours: 1,875.

Needs and Uses: This information collection requirement is necessary to accept claims and process those claims for reimbursement from separated former members of the Armed Forces and from survivors of deceased members of the Armed Forces. Public Law 108-375, section 351, and Public Law 109-163, require the Department of Defense to reimburse members of the Armed Forces for privately-purchased protective, safety, or health equipment for Operations Noble Eagle, Enduring Freedom, and Iraqi Freedom during the period of September 11, 2001, to April 1, 2006. The DD Form 2902 will be submitted by the former Service member, or survivor of deceased Service member, to an authorizing official identified on the DD Form 2902 for review and approval.

Affected Public: Individuals or households.

Frequency: On occasion.

Respondent's Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: February 14, 2006.
Patricia L. Toppings,
Alternate OSD Federal Register Liaison Officer, Department of Defense.

[FR Doc. 06-1659 Filed 2-22-06; 8:45 am]

BILLING CODE 5001-06-M